DEPARTMENT OF HEALTH AND HUMAN SERVICES

Indian Health Service

Health Professions Preparatory, Health Professions Pregraduate and Indian Health Professions Scholarship Programs: Correction

ACTION: Notice; correction.

SUMMARY: The Indian Health Service published a document in the Federal Register on January 19, 2005. The document contained two errors.

FOR FURTHER INFORMATION CONTACT: Mr. Jess Brien, Chief, Scholarship Branch, Indian Health Service, 801 Thompson Avenue, Suite 120, Rockville, Maryland 20852; Telephone (301) 443-6197. (This is not a toll-free number.)

Correction

In the Federal Register of January 19, 2005, in FR Doc. 05-1030, on page 3046, in the second column, correct the Anticipated Award Start Date to read August 1, 2005; page 3048, in the second column, Application Receipt Date, correct February 28, 2005 to March 28, 2005.

Dated: January 27, 2005.
Charles W. Grim,
Assistant Surgeon General, Director, Indian Health Service.

[FR Doc. 05-2971 Filed 2-15-05; 8:45 am]

BILLING CODE 4160-16-M